DEPARTMENT OF HEALTH AND HUMAN SERVICES

Centers for Disease Control and Prevention

[60Day-10-10GT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Behavioral Assessment Component of the Behavioral Assessment and Rapid Testing (BART) Project—New—National Center for HIV/AIDS, Viral Hepatitis, STD, and TB Prevention, (NCHHSTP), Centers for Disease Control and Prevention, (CDC).

Background and Brief Description

This Behavioral Assessment and Rapid Testing project will involve conducting behavioral assessments and rapid HIV testing at a variety of events serving groups at high risk for acquiring or transmitting HIV infection. Behavioral assessments will be conducted using one protocol and one research agenda but at events serving different minority and hard-to-reach populations. This project will address the increasing rates of HIV infection among African Americans (AAs) and men who have sex with men as well as the need for early detection and linkage to health care for HIV-infected persons. The behavioral assessment component will provide the opportunity to describe the risk profiles and prevalence of unrecognized infection among individuals reachable for HIV counseling and testing at these events. Collected data will be used to develop risk reduction interventions that are appropriate for the attendees of future events that attract persons who may be at high risk for HIV infection. The proposed project addresses “Healthy People 2010” priority area(s) of identifying new HIV infections and is in alignment with NCHHSTP performance goal(s) to strengthen the capacity nationwide to monitor the HIV epidemic, develop and implement effective HIV prevention interventions, and evaluate prevention programs.

The purpose of the proposed data collection is to collect behavioral data at selected public events serving specific high-risk populations and to increase the proportion of at-risk persons who are aware of their HIV status. The behavioral assessment component of the project addresses the need for increased behavioral data among some high-risk groups that are more difficult to access or represent increasingly greater proportions of the HIV epidemic.

A convenience sample will be used to select attendees at (1) Gay Pride; (2) Minority Gay Pride; (3) black spring break; and (4) cultural and social events attracting large numbers of African Americans. Trained interviewers will select and approach event attendees. A screener questionnaire will be used to determine participation eligibility and obtain oral consent. Approximately 7,000 individuals will be approached and screened (through a 2-minute interview) for eligibility to participate each year. Approximately 5,600 individuals are expected to be eligible and participate in the 5- to 15-minute behavioral assessment interview each year. There is no cost to respondents other than their time.

Estimate of Annualized Burden Table
Respondent | Form | Number of respondents | Number of responses per respondent | Average burden per response (hours) | Total burden (in hours)
—African American males and females (18+ yrs) at cultural/social events | Eligibility Screener | 7,000 | 1 | 2/60 | 233
—Males (18+ yrs) at gay pride events
—Racial/ethnic minority males (18+ yrs) at minority gay pride events
—African American males and females (18-35 yrs) at spring break festivals
—African American males and females (18+ yrs) at cultural/social events | Behavioral Assessment | 5,600 | 1 | 15/60 | 1,400
—Males (18+ yrs) at gay pride events
—Racial/ethnic minority males (18+ yrs) at minority gay pride events
—African American males and females (18-35 yrs) at spring break festivals
Total |  |  |  |  | 1,633

Dated: August 13, 2010.
Thelma Sims,
Acting Reports Clearance Officer, Centers for Disease Control and Prevention.

[FR Doc. 2010-20568 Filed 8-18-10; 8:45 am]

BILLING CODE 4163-18-P